DEPARTMENT OF HEALTH AND HUMAN SERVICES

Centers for Disease Control and Prevention

[60Day-17-1083; Docket No. CDC-2016-0127]

Proposed Data Collections Submitted for Public Comment and Recommendations

AGENCY: Centers for Disease Control and Prevention (CDC), Department of Health and Human Services (HHS).

SUMMARY: The Centers for Disease Control and Prevention (CDC), as part of its continuing effort to reduce public burden, invites the general public and other Federal agencies to take this opportunity to comment on proposed and/or continuing information collections, as required by the Paperwork Reduction Act of 1995. This notice invites comment on the Evaluation of the National Tobacco Prevention and Control Public Education Campaign (The Campaign). The primary objectives of the Campaign are to encourage smokers to quit smoking and to encourage nonsmokers to communicate with smokers about the dangers of smoking. The goal of this evaluation is to gauge the effectiveness of these efforts.

DATES: Written comments should be received within 60 days of this notice.

ADDRESSES: You may submit comments, identified by Docket No. CDC-2016-0127 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

FOR FURTHER INFORMATION CONTACT: Leroy A. Richardson, Information Collection Review Office, Centers for Disease Control and Prevention, 1600 Clifton Road NE., MS-D74, Atlanta, Georgia 30329; phone: 404-639-7570.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Extended Evaluation of the National Tobacco Prevention and Control Public Education Campaign (OMB Control No. 0920-1083, Expires 9/30/2017)—Revision—National Center for Chronic Disease Prevention and Health Promotion (NCCDPHP), Centers for Disease Control and Prevention (CDC).

Background and Brief Description

In 2012, HHS/CDC launched Phase 1 of the National Tobacco Prevention and Control Public Education Campaign (The Campaign). The primary objectives of The Campaign are to encourage smokers to quit smoking and to encourage nonsmokers to communicate with smokers about the dangers of smoking. To evaluate The Campaign, CDC obtained OMB approval for information collections beginning in 2012 (OMB Control Number 0920-0923). Baseline and follow-up surveys were conducted with both smokers and nonsmokers. In 2013, CDC launched Phase 2 of The Campaign and conducted an additional survey with smokers and one additional survey with nonsmokers, also under OMB Control Number 0920-0923. CDC recently completed a collection of the information needed to evaluate Phase 3 of The Campaign, which launched in early 2014. The evaluation of The Campaign in 2014 consisted of a longitudinal cohort using four waves of online surveys involving smokers and three waves involving nonsmokers to assess their awareness of and reactions to the 2014 advertisements as related to The Campaign's objectives (see previously-approved collection under OMB Control Number 0920-0923, expiration 3/31/2017). The final wave of this data collection effort also served as a pre-campaign baseline for Phase 4 of the campaign in 2015. The CDC subsequently aired Phase 5 of the campaign in 2016. To evaluate Phases 4 and 5, CDC fielded four additional waves of survey data collection. These data collections were fielded from September to November in 2015 and March to June, June to August, and November to December of 2016 (see previously-approved collection under OMB Control Number 0920-1083, expiration 9/30/2017).

New media activities for Phases 6 and 7 of The Campaign are scheduled to launch in early 2017 and early 2018, respectively. To support evaluation of The Campaign through Phases 6 and 7, CDC plans to field five new waves of information collection. During 2017 and 2018, CDC will administer the surveys in English and Spanish. Once enrolled in the first wave of data collection, CDC will re-contact all participants for follow-up at subsequent survey waves.

The sample for the data collection will originate from two sources: (1) An online longitudinal cohort of smokers and nonsmokers, sampled randomly from postal mailing addresses in the United States (address-based sample, or ABS); and (2) the existing GfK KnowledgePanel, an established long-term online panel of U.S. adults. The ABS-sourced longitudinal cohort will consist of smokers and nonsmokers who have not previously participated in any established online panels to reduce potential panel conditioning bias from previous participation. The new cohort will be recruited by GfK, utilizing similar recruitment methods that are used in the recruitment of KnowledgePanel. The GfK KnowledgePanel will be used in combination with the new ABS-sourced cohort to support larger sample sizes that will allow for more in-depth subgroup analysis, which is a key objective for CDC. All online surveys, regardless of sample source, will be conducted via the GfK KnowledgePanel Web portal for self-administered surveys.

Information will be collected through Web surveys to be self-administered on computers in the respondent's home or in another convenient location. Information will be collected about smokers' and nonsmokers' awareness of and exposure to specific campaign advertisements; knowledge, attitudes, beliefs related to smoking and secondhand smoke; and other marketing exposure. The surveys will also measure behaviors related to smoking cessation (among the smokers in the sample) and behaviors related to nonsmokers' encouragement of smokers to quit smoking, recommendations of cessation services, and attitudes about other tobacco and nicotine products.

It is important to evaluate The Campaign in a context that assesses the dynamic nature of tobacco product marketing and uptake of various tobacco products, particularly since these may affect successful cessation rates. Survey instruments may be updated to include new or revised items on relevant topics, including cigars, noncombustible tobacco products, and other emerging trends in tobacco use.

Participation is voluntary and there are no costs to respondents other than their time. The total response burden is estimated at 37,168 hours over two years between June 2017 and December 2018. The total annualized burden hours during this period thus are estimated at 18,584.

Estimated Annualized Burden Hours
Type of respondent | Form name | Number of respondents | Number of responses per respondent | Average burden per response (in hours) | Total burden (in hours)
General Population | Screening & Consent Questionnaire | 25,000 | 1 | 5/60 | 2,084
Adults Smokers and Nonsmokers, ages 18-54, in the United States | Smoker Survey (Wave A) | 6,500 | 1 | 30/60 | 3,250
| Smoker Survey (Wave B) | 4,000 | 1 | 30/60 | 2,000
| Smoker Survey (Wave C) | 4,000 | 1 | 30/60 | 2,000
| Smoker Survey (Wave D) | 4,000 | 1 | 30/60 | 2,000
| Smoker Survey (Wave E) | 4,000 | 1 | 30/60 | 2,000
| Nonsmoker Survey (Wave A) | 2,500 | 1 | 30/60 | 1,250
| Nonsmoker Survey (Wave B) | 2,000 | 1 | 30/60 | 1,000
| Nonsmoker Survey (Wave C) | 2,000 | 1 | 30/60 | 1,000
| Nonsmoker Survey (Wave D) | 2,000 | 1 | 30/60 | 1,000
| Nonsmoker Survey (Wave E) | 2,000 | 1 | 30/60 | 1,000
Total |  |  |  |  | 18,584

Leroy A. Richardson,
Chief, Information Collection Review Office, Office of Scientific Integrity, Office of the Associate Director for Science, Office of the Director, Centers for Disease Control and Prevention.

[FR Doc. 2016-31968 Filed 1-4-17; 8:45 am]

BILLING CODE 4163-18-P